DEPARTMENT OF DEFENSE

Department of the Army; Corps of Engineers

Intent to Prepare a Draft Environmental Impact Statement for a Proposed Water Treatment Residuals Management Process for the Washington Aqueduct, Washington, DC

Correction

In notice document 04-441 beginning on page 1698 in the issue of Monday, January 12, 2004, make the following corrections:

1. On page 1699, in the first column, under the heading 3. Objectives of Proposed Action, in the first bulleted paragraph, in the third line, the permit number should read, “DC0000019.”

2. On the same page, in the second column, under the heading 5. Scoping Process, in the 12th through 14th lines, the Web site address should read, “http://washingtonaqueduct.nab. usace.army.mil.”

[FR Doc. C4-441 Filed 1-14-04; 8:45 am]

BILLING CODE 1505-01-P